DEPARTMENT OF HEALTH AND HUMAN SERVICES

Administration for Children and Families

Submission for OMB Review; Comment Request

Title: Annual Report on Households Assisted by the Low Income Home Energy Assistance Program (LIHEAP).

OMB No.: 0970-0060.

Description: This report is an annual activity required by statute (42 U.S.C. 8629) and Federal regulations (45 CFR 96.92) for the Low Income Home Energy Assistance Program (LIHEAP). Submission of the completed report is one requirement for LIHEAP grantees applying for Federal LIHEAP block grant funds.

Grantees required to complete the Long Format of the Household Report are required to report statistics for the previous Federal fiscal year on:

• Assisted and applicant households, by type of LIHEAP assistance;

• Assisted and applicant households, by type of LIHEAP assistance and poverty level;

• Assisted households receiving nominal payments of $50 or less;

• Assisted households receiving only utility payment assistance;

• Assisted households, regardless of the type(s) of LIHEAP assistance, excluding households that only receive nominal payments of $50 or less;

• Assisted households, by type of LIHEAP assistance, having at least one vulnerable member who is at least 60 years or older, disabled, or five years old or younger;

• Assisted households, regardless of the type(s) of LIHEAP assistance, having at least one member 60 years or older, disabled, or five years old or younger.

Grantees required to complete the Short Format of the Household Report are required to submit data only on the number of households receiving heating, cooling, energy crisis, or weatherization benefits.

The information is being collected for the Department's annual LIHEAP report to Congress. The data also provides information about the need for LIHEAP funds. Finally, the data are used in the calculation of LIHEAP performance measures under the Government Performance and Results Act of 1993. The additional data elements will improve the accuracy of measuring LIHEAP targeting performance and LIHEAP cost efficiency.

ACF published a Federal Register notice on August 17, 2018 soliciting 60 days of public comment on the renewal of the LIHEAP Household Report without any changes. No comments were received during this timeframe.

Respondents: State Governments, Tribal Governments, Insular Areas, and the District of Columbia.

Annual Burden Estimates
Instrument | Number of respondents | Number of responses per respondent | Average burden hours per response | Total burden hours
Assisted household Report—Long Form | 56 | 1 | 39 | 2,184
Assisted Household Report—Short Form | 160 | 1 | 1 | 160

Estimated Total Annual Burden Hours: 2,344.

Additional Information: Copies of the proposed collection may be obtained by writing to the Administration for Children and Families, Office of Planning, Research and Evaluation, 330 C Street SW, Washington, DC 20201. Attention Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2018-23200 Filed 10-23-18; 8:45 am]

BILLING CODE 4184-01-P